DEPARTMENT OF HEALTH AND HUMAN SERVICES

National Institutes of Health

National Institute of Mental Health; Amended Notice of Meeting

Notice is hereby given of a change in the meeting of the National Advisory Mental Health Council, May 22, 2008, 10:30 a.m. to May 23, 2008, 12:30 p.m., National Institutes of Health, Building 31, 31 Center Drive, Bethesda, MD 20892 which was published in the Federal Register on April 23, 2008, 73FR21967.

The Closed Grant Review session of the National Advisory Mental Health Council will start at 11 a.m. instead of 10:30 a.m. This Closed session on May 22, 2008, will be at the Neuroscience Center, 6001 Executive Boulevard, Rockville, MD. The meeting is partially Closed to the public.

Dated: May 9, 2008.
Jennifer Spaeth,
Director, Office of Federal Advisory Committee Policy.

[FR Doc. E8-11087 Filed 5-16-08; 8:45 am]

BILLING CODE 4140-01-M